DEPARTMENT OF EDUCATION

List of Correspondence

AGENCY: Office of Special Education and Rehabilitative Services; Department of Education.

ACTION: List of Correspondence from July 1, 2011, through September 30, 2011.

SUMMARY: The Secretary is publishing the following list pursuant to section 607(f) of the Individuals with Disabilities Education Act (IDEA). Under section 607(f) of the IDEA, the Secretary is required, on a quarterly basis, to publish in the Federal Register a list of correspondence from the U.S. Department of Education (Department) received by individuals during the previous quarter that describes the interpretations of the Department of the IDEA or the regulations that implement the IDEA. This list and the letters or other Departmental documents described in this list, with personally identifiable information redacted, as appropriate, can be found at: http://www2.ed.gov/policy/speced/guid/idea/index.html.

FOR FURTHER INFORMATION CONTACT: Jessica Spataro or Mary Louise Dirrigl. Telephone: (202) 245-7468.

If you use a telecommunications device for the deaf (TDD), you can call the Federal Relay Service (FRS), toll free, at 1-800-877-8339.

Individuals with disabilities can obtain a copy of this list and the letters or other Departmental documents described in this list in an accessible format (e.g., braille, large print, audiotape, or compact disc) by contacting Jessica Spataro or Mary Louise Dirrigl at (202) 245-7468.

SUPPLEMENTARY INFORMATION: The following list identifies correspondence from the Department issued from July 1, 2011, through September 30, 2011. The list includes those letters that contain interpretations of the requirements of the IDEA and its implementing regulations, and may also include letters and other documents that the Department believes will assist the public in understanding the requirements of the law and its regulations. The date of and topic addressed by each letter are identified, and summary information is also provided, as appropriate. To protect the privacy interests of the individual or individuals involved, personally identifiable information has been redacted, as appropriate.

Part B—Assistance for Education of All Children With Disabilities

Section 612—State Eligibility

Topic Addressed: Least Restrictive Environment

○ Letter dated September 30, 2011, to Conference of Educational Administrators of Schools and Programs for the Deaf, Inc., President Ronald Stern, clarifying that the data reporting requirements for State Performance Plan/Annual Performance Report (SPP/APR) indicators regarding least restrictive environment and natural environments do not mandate particular placements for infants and toddlers or children with disabilities.

Section 614—Evaluations, Eligibility Determinations, Individualized Education Programs, and Educational Placements

Topic Addressed: Individualized Education Programs

○ Letter dated September 26, 2011, to Commonwealth of Virginia Department of Education Special Education and Student Services, Assistant Superintendent, H. Douglas Cox, clarifying when it would be permissible for a student's individualized education program (IEP) to include a postsecondary goal or goals combining the areas of training and education.

Section 615—Procedural Safeguards

Topic Addressed: Surrogate Parents

○ Letter dated September 6, 2011, to Board of Childcare, Community Education Director, Ronald Caplan, clarifying when a public agency is required to appoint a surrogate parent for a child who is a ward of the State.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

(Catalog of Federal Domestic Assistance Number 84.027, Assistance to States for Education of Children with Disabilities)

Dated: January 26, 2012.
Alexa Posny,
Assistant Secretary for Special Education and Rehabilitative Services.

[FR Doc. 2012-2112 Filed 1-31-12; 8:45 am]

BILLING CODE 4000-01-P